FEDERAL COMMUNICATIONS COMMISSION

Notice of Public Information Collection(s) Being Reviewed by the Federal Communications Commission, Comments Requested

November 22, 2004.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before January 31, 2005. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-0395.

Title: The ARMIS USOA Report (ARMIS Report 43-02); the ARMIS Service Quality Report (ARMIS Report 43-05); and the ARMIS Infrastructure Report (ARMIS Report 43-07).

Report Nos.: FCC Reports 43-02, 43-05 and 43-07.

Type of Review: Extension of a currently approved collection.

Respondents: Business or other for-profit.

Number of Respondents: 50.

Estimated Time Per Response: 415 hours.

Frequency of Response: Annual reporting requirement.

Total Annual Burden: 20,750 hours.

Total Annual Cost: $4,347,000.

Privacy Act Impact Assessment: N/A.

Needs and Uses: The FCC Report 43-02 provides the annual results of the carriers' activities for each account of the Uniform System of Accounts. The FCC Report 43-05 provides service quality information in the areas of inter-exchange access service, installation and repair intervals, local service installation and repair intervals, trunk blockage, and total switch downtime for price cap carriers. FCC Report 43-07 provides switch deployment and capabilities data.

OMB Control No.: 3060-0410.

Title: Forecast of Investment Usage Report and Actual Usage of Investment Report.

Form Nos.: FCC Forms 495A and 495B.

Type of Review: Extension of a currently approved collection.

Respondents: Business or other for-profit.

Number of Respondents: 97.

Estimated Time Per Response: 80 hours.

Frequency of Response: Annual reporting requirement.

Total Annual Burden: 7,760 hours.

Total Annual Cost: N/A.

Privacy Act Impact Assessment: N/A.

Needs and Uses: FCC Forms 495A and 495B are needed to detect and correct forecast errors that could lead to significant misallocation of network plant between regulated and non-regulated activities. FCC's purpose is to protect the regulated ratepayer from subsidizing the non-regulated activities of rate regulated telephone companies. Only large incumbent local exchange carriers (ILECs) file these forms/reports.

OMB Control No.: 3060-0496.

Title: The ARMIS Operating Data Report.

Report No.: FCC Report 43-08.

Type of Review: Extension of a currently approved collection.

Respondents: Business or other for-profit.

Number of Respondents: 56.

Estimated Time Per Response: 139 hours.

Frequency of Response: Annual reporting requirement.

Total Annual Burden: 7,784 hours.

Total Annual Cost: N/A.

Privacy Act Impact Assessment: N/A.

Needs and Uses: FCC Report 43-08 collects annual statistical data in a consistent format that is essential for the Commission to monitor network growth, usage, and reliability.

OMB Control No.: 3060-0511.

Title: ARMIS Access Report.

Report No.: FCC Report 43-04.

Type of Review: Extension of a currently approved collection.

Respondents: Business or other for-profit.

Number of Respondents: 82.

Estimated Time Per Response: 153 hours.

Frequency of Response: Annual reporting requirement.

Total Annual Burden: 12,546 hours.

Total Annual Cost: N/A.

Privacy Act Impact Assessment: N/A.

Needs and Uses: FCC Report 43-04 is needed to administer the Commission's accounting, jurisdictional separations and access charge rule; to analyze revenue requirements and rates of return; and to collect financial data from Tier 1 incumbent local exchange carriers (ILECs).

OMB Control No.: 3060-0512.

Title: The ARMIS Annual Summary Report.

Report No.: FCC Report 43-01.

Type of Review: Extension of a currently approved collection.

Respondents: Business or other for-profit.

Number of Respondents: 124.

Estimated Time Per Response: 89 hours.

Frequency of Response: Annual reporting requirement.

Total Annual Burden: 11,036 hours.

Total Annual Cost: N/A.

Privacy Act Impact Assessment: N/A.

Needs and Uses: FCC Report 43-01 contains financial and operating data and is used to monitor the incumbent local exchange carrier (ILEC) industry and to perform routine analyses of costs and revenues on behalf of the Commission. For this collection, and the ones referenced above, the Commission is seeking extension (no change in requirements) in order to obtain the full three year clearance from the Office of Management and Budget (OMB).

OMB Control No.: 3060-0986.

Title: Federal State Joint Board on Universal Service—Plan for Reforming the Rural Universal Service Support Mechanism, CC Docket No. 96-45.

Form No.: FCC Form 525.

Type of Review: Revision of a currently approved collection.

Respondents: Business or other for-profit and state, local or tribal government.

Number of Respondents: 2,000.

Estimated Time Per Response: 1.5 hours.

Frequency of Response: On occasion, annual, and quarterly reporting requirements and third party disclosure requirements.

Total Annual Burden: 3,000 hours.

Total Annual Cost: N/A.

Privacy Act Impact Assessment: N/A.

Needs and Uses: With this revision, the Commission plans to implement a new form (FCC Form 525) in which competitive eligible telecommunications carriers (CETCs) will submit line count data. CETCs currently submit this data in a letter format for this and other collections under various OMB control numbers. The use of one form, i.e., FCC Form 525, will now facilitate this information for all reporting requirements. Finally, this collection is also being revised to eliminate one time filing requirements that have now expired and are being removed from this collection.

Federal Communications Commission.
Marlene H. Dortch,
Secretary.

[FR Doc. 04-26558 Filed 12-1-04; 8:45 am]

BILLING CODE 6712-01-P